DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Current Retail Sales & Inventory Survey.

Form Number(s): SM-44(00)S, SM-44(00)SE, SM-44(00)SS, SM-44(00)B, SM-44(00)BE, SM-44(00)BS, SM-44(00)L, SM-44(00)LE, SM-44(00)LS, SM-45(00)S, SM-45(00)SE, SM-45(00)SS, SM-45(00)B, SM-45(00)BE, SM-45(00)BS, SM-72(00)S, SM-20(00)I.

Agency Approval Number: 0607-0717.

Type of Request: Extension of a currently approved collection.

Burden: 13,364 hours.

Number of Respondents: 8,706.

Avg Hours Per Response: 7.7 minutes.

Needs and Uses: The U.S. Census Bureau requests an extension of the OMB approval of the Current Retail Sales and Inventory Survey. The Current Retail Sales and Inventory Survey provides estimates of monthly retail sales, end-of-month merchandise inventories, and quarterly e-commerce sales of retailers in the United States by selected kinds of business. Also, it provides monthly sales of food service establishments.

Sales and inventory data provide a current statistical picture of the retail portion of consumer activity. The sales and inventory estimates in the Current Retail Sales and Inventory Survey measure current trends of economic activity that occur in the United States. Also, the estimates compiled from the survey provide valuable information for economic policy decisions and actions by the government and are widely used by private businesses, trade organizations, professional associations, and others for market research and analysis. Sales are used by the Bureau of Economic Analysis (BEA) in determining the consumption portion of the Gross Domestic Product (GDP).

Retail and Food Services Sales during 2004 amounted to $4.1 trillion. The estimates produced in the Current Retail Sales and Inventory Survey are critical to the accurate measurement of total economic activity. The estimates of retail sales represent all operating receipts, including receipts from wholesale sales made at retail locations and services rendered as part of the sale of the goods, by businesses that primarily sell at retail. The sales estimates include sales made on credit as well on a cash basis, but exclude receipts from sales taxes and interest charges from credit sales. Also excluded is non-operating income from such services as investments and real estate.

The estimates of merchandise inventories owned by retailers represent all merchandise located in retail stores, warehouses, offices, or in transit for distribution to retail establishments. The estimates of merchandise inventories exclude fixtures and supplies not held for sale, as well as merchandise held on consignment owned by others. Inventories are used by the BEA in determining the investment portion of the GDP.

Retail e-commerce sales are estimated from the same sample used in the Current Retail Sales and Inventory Survey to estimate preliminary and final U.S. retail sales. The Current Retail Sales and Inventory sample is updated on an ongoing basis to account for new retail employer businesses (including those selling via the Internet), business deaths, and other changes to the retail business universe. Research was conducted to ensure that retail firms selected in the Current Retail Sales and Inventory Survey sample and engaged in e-commerce are representative of the universe of e-commerce retailers. Total e-commerce sales for 2003 were estimated at $56 billion.

We publish retail sales and inventory estimates based on the North American Industry Classification System (NAICS) which has been widely adopted throughout both the public and private sectors.

The BEA is the primary Federal user of data collected in the Current Retail Sales and Inventory Survey. BEA uses the information in its preparation of the National Income and Products Accounts, and its benchmark and annual input-output tables. Statistics provided from retail sales and inventory estimates are used in the calculation of the GDP. If the survey were not conducted, BEA would lack comprehensive data from the retail sector. This would adversely affect the reliability of the National Income and Products Accounts and the GDP.

The Bureau of Labor Statistics (BLS) uses the data as input to its Producer Price Indexes and in developing productivity measurements. The data are also used for gauging current economic trends of the economy. Private businesses use the retail sales and inventory data to compute business activity indexes. The private sector also uses retail sales as a reliable indicator of consumer activity.

Affected Public: Business or other for-profit.

Frequency: Monthly.

Respondent's Obligation: Voluntary.

Legal Authority: Title 13 U.S.C. 182.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: March 15, 2005.
Madeleine Clayton,
Management Analyst, Office of the Chief Information Officer.

[FR Doc. 05-5425 Filed 3-17-05; 8:45 am]

BILLING CODE 3510-07-P